DEPARTMENT OF ENERGY

Federal Energy Regulatory Commission

[Docket No. RP00-107-010]

Williston Basin Interstate Pipeline Company; Notice of Compliance Filing

May 16, 2006.

Take notice that on May 5, 2006, Williston Basin Interstate Pipeline Company (Williston Basin) tendered for filing with the Commission, under protest, certain revised tariff sheets to Original Volume No. 2 and Second Revised Volume No. 1 of its FERC Gas Tariff, a non-conforming Rate Schedule FT-1 Service Agreement between Williston Basin and Northern States Power Company (NSP), and an amended Exhibit A to Contract No. FT-00157 between Williston Basin and NSP in compliance with the Commission's Order issued April 20, 2006 in Docket No. RP00-107-009.

Williston Basin states that its filing reflects the removal of the Rate Schedule X-13 agreement between Williston Basin and NSP from its Tariff, and that it is filing the provisions of Rate Schedule X-13 as a non-conforming Rate Schedule FT-1 Service Agreement with terms identical to those of the predecessor Rate Schedule X-13 except for the removal of the 25 basis point reduction in the return on equity component. The effective date of such Service Agreement is May 5, 2006 in compliance with the Commission's Order. Williston Basin is also filing an amended Exhibit A to Contract No. FT-00157 between Williston Basin and NSP to reflect the removal of the 50-percent ADQ limitation.

Williston Basin also states that this filing is being made without prejudice to Williston Basin's rights on rehearing and/or judicial review of any of the various issues in the instant proceeding and matters currently pending. Williston Basin reserves its rights relative to any refunds and/or rebilling that may result from the final outcome of the instant proceeding.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-7889 Filed 5-23-06; 8:45 am]

BILLING CODE 6717-01-P